DEPARTMENT OF HOMELAND SECURITY

Coast Guard

33 CFR Part 165

[Docket No. USCG-2023-0482]

Safety Zone; Northern California and Lake Tahoe Area Annual Fireworks Events

AGENCY: Coast Guard, DHS.

ACTION: Notification of enforcement of regulation.

SUMMARY: The Coast Guard will enforce numerous safety zones within the San Francisco Captain of the Port area of responsibility during the dates and times specified below. This action is necessary to protect personnel, vessels, and the marine environment from the hazards associated with the fireworks displays. During the enforcement period, unauthorized persons or vessels are prohibited from entering into, transiting through, or remaining in the regulated areas, unless authorized by the Patrol Commander (PATCOM) or an Official Patrol including any Federal, State, or local law enforcement agencies on scene to assist the Coast Guard in enforcing the regulated area.

DATES: The regulations in 33 CFR 165.1191 will be enforced for the locations identified in Items 3, 4, 7, 9, 10, 11, 12, 14, 16, 18, and 31 of Table 1 to § 165.1191 during the dates and times identified in the SUPPLEMENTARY INFORMATION section below.

FOR FURTHER INFORMATION CONTACT: If you have questions about this notification of enforcement, call or email Petty Officer First Class Shannon Curtaz-Milian, Waterways Management, U.S. Coast Guard Sector San Francisco; telephone (415) 399-7440, email SFWaterways@uscg.mil.

SUPPLEMENTARY INFORMATION: The Coast Guard will enforce the safety zones established in 33 CFR 165.1191, Table 1, Item numbers 3, 4, 7, 9, 10, 11, 12, 14, 16, 18, and 31 during the dates, times, and locations indicated in the table below. The dates, times, and locations will also be published in the Local Notice to Mariners at least 10 days prior to the date of each event.

3. Fourth of July Fireworks, City of Eureka
Sponsor | City of Eureka, CA.
Event Description | Fireworks Display.
Date | July 3, 2023 and July 4, 2023.
Time | From 8 a.m. on July 3, 2023 to 9:45 p.m. on July 4, 2023, the barge will load, transit, and stage at the display location. From 9:45 p.m. until approximately 10:55 p.m. on July 4, 2023, the safety zone will encompass all navigable waters within a 1,000-foot radius of the fireworks barge.
Location | Humboldt Bay, CA.
Regulated Area | 100-foot radius around the fireworks launch barge during the loading of pyrotechnics aboard the fireworks barge and during the transit of the fireworks barge from the loading location to the display location. Increases to a 1,000-foot radius upon commencement of the fireworks display.
4. Fourth of July Fireworks, Crescent City
Sponsor | Crescent City, CA.
Event Description | Fireworks Display.
Date | July 4, 2023.
Time | From 9:30 p.m. until approximately 10:20 p.m. on July 4, 2023.
Location | Crescent City Harbor, Crescent City, CA.
Regulated Area | Crescent City Harbor in the navigable waters within a 700-foot radius of the launch platform located on the West Jetty.
7. San Francisco Independence Day Fireworks
Sponsor | The City of San Francisco.
Event Description | Fireworks Display.
Date | July 4, 2023.
Time | From 10 a.m. on July 2, 2023, to 9:25 p.m. on July 4, 2023 the barges will load, transit, and stage at the display location. From 9:25 p.m. until approximately 10:30 p.m. on July 4, 2023, the safety zone will encompass all navigable waters within a 1000-foot radius of the fireworks barges.
Location 1 | A barge located approximately 1,000 feet off San Francisco Pier 39.
Location 2 | A barge located approximately 700 feet off the San Francisco Municipal Pier at Aquatic Park.
Regulated Area | 100-foot radius around each fireworks barge during the loading, transit, setup, and until the commencement of the scheduled display. Increases to a 1,000-foot radius upon commencement of the fireworks display.
9. Fourth of July Fireworks, City of Richmond
Sponsor | Various Sponsors.
Event Description | Fireworks Display.
Date | July 3, 2023.
Location | A barge located in the Richmond Harbor in Richmond, CA.
Time | From 9 a.m. on July 3, 2023 to 9:15 p.m. on July 3, 2023, the barge will load, transit, and stage at the display location. From 9:15 p.m. until approximately 10 p.m. on July 3, 2023, the safety zone will encompass all navigable waters within a 560-foot radius of the fireworks barge.
Regulated Area | 100-foot radius around the fireworks barge during the loading, transit, setup, and until the commencement of the scheduled display. Increases to a 560-foot radius upon commencement of the fireworks display.
10. Fourth of July Fireworks, City of Sausalito
Sponsor | City of Sausalito.
Event Description | Fireworks Display.
Date | July 4, 2023.
Time | From 9 a.m. on July 4, 2023 to 9:15 p.m. on July 4, 2023, the barge will load, transit, and stage at the display location. From 9:15 p.m. until approximately 10:20 p.m. on July 4, 2023, the safety zone will encompass all navigable waters within a 1,000-foot radius of the fireworks barge.
Location | 1,000 feet offshore from Sausalito, CA waterfront, north of Spinnaker Restaurant.
Regulated Area | 100-foot radius around the fireworks launch barge during the loading of pyrotechnics aboard the fireworks barge and during the transit of the fireworks barge from the loading location to the display location. Increases to a 1,000-foot radius upon commencement of the fireworks display.
11. Fourth of July Fireworks, City of Martinez
Sponsor | City of Martinez.
Event Description | Fireworks Display.
Date | July 4, 2023.
Time | From 9:30 p.m. until approximately 9:50 p.m. on July 4, 2023.
Location | Carquinez Strait, CA.
Regulated Area | The area of navigable waters within a 560-foot radius of the launch platform located near Waterfront Park.
12. Fourth of July Fireworks, City of Antioch
Sponsor | City of Antioch.
Event Description | Fireworks Display.
Date | July 4, 2023.
Time | From 9 a.m. to 8:45 p.m. on July 4, 2023, the barge will load, transit, and stage at the display location. From 8:45 p.m. until approximately 9:50 p.m. on July 4, 2023, the safety zone will encompass all navigable waters within a 1,000-foot radius of the fireworks barge.
Location | San Joaquin River, CA.
Regulated Area | 100-foot radius around the fireworks launch barge during the loading of pyrotechnics aboard the fireworks barge and during the transit of the fireworks barge from the loading location to the display location. Increases to a 1,000-foot radius upon commencement of the moving fireworks display.
14. Delta Independence Day Celebration Fireworks
Sponsor | Various Sponsors.
Event Description | Fireworks Display.
Date | July 3, 2023.
Time | From 8 a.m. on July 3, 2023 until 9:15 p.m. on July 3, 2023, the barge will load, transit, and stage at the display location. From 9:15 p.m. until approximately 10 p.m. on July 3, 2023, the safety zone will encompass all navigable waters within a 1,000-foot radius of the fireworks barge.
Location | San Joaquin River, near Mandeville Island, CA.
Regulated Area | 100-foot radius around the fireworks launch barge during the loading of pyrotechnics aboard the fireworks barge and during the transit of the fireworks barge from the loading location to the display location. Increases to a 1,000-foot radius upon commencement of the fireworks display.
16. Fourth of July Fireworks, Glenbrook NV
Sponsor | Various Sponsors.
Event Description | Fireworks Display.
Date | July 4, 2023.
Time | From 9 a.m. to 9:15 p.m. on July 4, 2023, the barge will load, transit, and stage at the display location. From 9:15 p.m. until approximately 10:20 p.m. on July 4, 2023, the safety zone will encompass all navigable waters within a 1,000-foot radius of the fireworks barge.
Location | Offshore Glenbrook Beach, NV.
Regulated Area | 100-foot radius around the fireworks launch barge during the loading of pyrotechnics aboard the fireworks barge and during the transit of the fireworks barge from the loading location to the display location. Increases to a 1,000-foot radius upon commencement of the fireworks display.
18. Lights on the Lake Fourth of July Fireworks, South Lake Tahoe, CA
Sponsor | Various Sponsors.
Event Description | Fireworks Display.
Date | July 1, 2023 through July 4, 2023.
Time | From 7 a.m. on July 1, 2023 till 9:30 p.m. on July 4, 2023, the barges will load, transit, and stage at the display location. From 9:30 p.m. until approximately 10:30 p.m. on July 4, 2023, the safety zone will encompass all navigable waters within a 1,000-foot radius of the fireworks barges.
Location | Off South Lake Tahoe, CA near the NV Border.
Regulated Area | 100-foot radius around the fireworks launch barge during the loading of pyrotechnics aboard the fireworks barge and during the transit of the fireworks barge from the loading location to the display location. Increases to a 1,000-foot radius upon commencement of the fireworks display.
31. Benicia Fourth of July Fireworks
Sponsor | City of Benicia, CA.
Event Description | Fireworks Display.
Date | July 4, 2023.
Time | From 9:30 p.m. until approximately 9:50 p.m. on July 4, 2023.
Location | Carquinez Strait, Benicia, CA.
Regulated Area | 1,000-foot radius around the fireworks launch site located on the Benicia First Street Pier.

Under the provisions of 33 CFR 165.1191, unauthorized persons or vessels are prohibited from anchoring, blocking, loitering, or impeding the through transit of participants or official patrol vessels in the safety zone during all applicable effective dates and times, unless authorized to do so by the PATCOM or other Official Patrol, defined as a Federal, State, or local law enforcement agency on scene to assist the Coast Guard in enforcing the safety zone. During the enforcement periods, if you are the operator of a vessel in one of the safety zones, you must comply directions from the Patrol Commander or other Official Patrol. The PATCOM or Official Patrol may, upon request, allow the transit of commercial vessels through regulated areas when it is safe to do so.

In addition to this notice of enforcement in the Federal Register, the Coast Guard plans to provide notification of this enforcement period via the Local Notice to Mariners.

If the Captain of the Port determines that the regulated area need not be enforced for the full duration stated in this notice, a Broadcast Notice to Mariners may be used to grant general permission to enter the regulated area.

Dated: June 21, 2023.
Jordan M. Baldueza,
Captain, U.S. Coast Guard, Alternate Captain of the Port, San Francisco.

[FR Doc. 2023-13714 Filed 6-27-23; 8:45 am]

BILLING CODE P